DEPARTMENT OF ENERGY

Federal Energy Regulatory Commission

[Docket No. ER14-1409-000]

ISO New England, Inc.; Notice of Motion for Disclosure of Redacted Information

On July 31, 2014, Belmont Municipal Light Department, Braintree Electric Light Department, Concord Municipal Light Plant, Georgetown Municipal Light Department, Groveland Electric Light Department, Hingham Municipal Lighting Plant, Littleton Electric Light and Water Department, Merrimac Municipal Light Department, Middleton Electric Light Department, Rowley Municipal Lighting Plant, Taunton Municipal Lighting Plant and Wellesley Municipal Light Plant (collectively, the Eastern Massachusetts Consumer-Owned Systems or EMCOS) jointly filed a motion pursuant to Rule 212 of the Commission's Rules of Practice and Procedure, to disclose in entirety ISO-New England's (ISO-NE) response to the Director, Division of Electric Power Regulation—East's deficiency letter issued June 27, 2014, notwithstanding ISO-NE's request to treat the redacted portions of its response as confidential. EMCOS also request that ISO-NE's complete response be re-noticed with adequate time to permit intervenors to evaluate the redacted information.

Answers to the motion must be filed by 5:00 p.m. Eastern time on Monday, August 11, 2014.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 6, 2014.
Kimberly D. Bose,
Secretary.

[FR Doc. 2014-19038 Filed 8-11-14; 8:45 am]

BILLING CODE 6717-01-P